DEPARTMENT OF LABOR

Office of Workers' Compensation Programs

Energy Employees Occupational Illness Compensation Program Act of 2000, as Amended

AGENCY: Office of Workers' Compensation Programs, Labor.

ACTION: Notice of revision of listing of covered Department of Energy facilities.

SUMMARY: The Office of Workers' Compensation Programs (OWCP) is publishing a list of Department of Energy (DOE) facilities covered under the Energy Employees Occupational Illness Compensation Program Act of 2000, as amended (EEOICPA). This notice revises and republishes the listing of DOE facilities that was last published by OWCP on April 8, 2013 (78 FR 20950) to include additional determinations made on this subject through January 20, 2015.

FOR FURTHER INFORMATION CONTACT: Rachel P. Leiton, Director, Division of Energy Employees Occupational Illness Compensation, Office of Workers' Compensation Programs, U.S. Department of Labor, Room C-3321, 200 Constitution Avenue NW., Washington, DC 20210. Telephone: 202-693-0081 (this is not a toll-free number).

ADDRESSES: OWCP welcomes comments regarding this list. Individuals who wish to suggest changes to this list may provide information to OWCP at the following address: U.S. Department of Labor, Office of Workers' Compensation Programs, Division of Energy Employees Occupational Illness Compensation, Room C-3321, 200 Constitution Avenue NW., Washington, DC 20210. You may also suggest changes to this list by email at DEEOIC-Public@dol.gov. You should include “DOE facilities list” in the subject line of any email containing comments on this list.

SUPPLEMENTARY INFORMATION:

I. Background

The Energy Employees Occupational Illness Compensation Program Act of 2000, as amended (42 U.S.C. 7384 et seq.), was originally enacted on October 30, 2000, and the primary responsibility for administering EEOICPA was assigned to the Department of Labor (DOL) by Executive Order 13179 (65 FR 77487). In section 2(c)(vii) of that Executive Order, DOE was directed to publish a list in the Federal Register of Atomic Weapons Employer (AWE) facilities, DOE facilities, and facilities owned and operated by a Beryllium Vendor (as those terms are defined in sections 7384l(5), 7384l(12) and 7384l(6) of EEOICPA, respectively). Pursuant to this direction, DOE published a list of these three types of facilities covered under EEOICPA on January 17, 2001 (66 FR 4003), and subsequently revised and republished the entire list on June 11, 2001 (66 FR 31218), December 27, 2002 (67 FR 79068), July 21, 2003 (68 FR 43095) and August 23, 2004 (69 FR 51825). In subsequent notices published on November 30, 2005 (70 FR 71815), June 28, 2007 (72 FR 35448), April 9, 2009 (74 FR 16191), August 3, 2010 (75 FR 45608), May 26, 2011 (76 FR 30695), February 6, 2012 (77 FR 5781) and February 11, 2013 (78 FR 9678), DOE further revised the August 23, 2004 list by formally removing a total of 16 AWE facilities without republishing the list in its entirety.

Following the amendments to EEOICPA that were enacted as subtitle E of Title XXXI of the Ronald W. Reagan National Defense Authorization Act for Fiscal Year 2005, Public Law 108-375, 118 Stat. 1811, 2178 (October 28, 2004), OWCP promulgated final regulations governing its expanded responsibilities under EEOICPA on December 29, 2006 (71 FR 78520). One of those regulations, 20 CFR 30.5(x)(2), indicates that OWCP has adopted the list of DOE facilities that was published by DOE on August 23, 2004, and notes that OWCP “will periodically update this list as it deems appropriate in its sole discretion by publishing a revised list of covered [DOE] facilities in the Federal Register.” In making these updates, § 30.5(x)(1) specifies that the Director of OWCP is solely responsible for determining if a particular work site under consideration meets the statutory definition of a Department of Energy facility. This sole responsibility is derived from the grant of primary authority to DOL to administer the EEOICPA claims process contained in section 2(a)(i) of Executive Order 13179.

II. Purpose

Since OWCP last published a notice listing all DOE facilities covered under EEOICPA in the April 8, 2013 Federal Register, the Director of OWCP has made a determination regarding the status of a work site in connection with claims filed under EEOICPA. That determination is briefly described in this Supplementary Information and is memorialized in the two updated lists of DOE facilities published by OWCP today.

Specifically, the Director of OWCP has determined that the Haist Property located in Tonawanda, New York, meets the statutory definition of a Department of Energy facility for the purposes of claims filed under EEOICPA, because property records indicate that the Manhattan Engineer District and the Atomic Energy Commission had a proprietary interest in that location until ownership of the work site was transferred to the General Services Administration. In addition, OWCP's research has led the Director to clarify or otherwise modify the designation of another work site that was previously included in OWCP's published lists. That work site, which previously appeared in List 1 under Colorado as the Grand Junction Operations Office, now appears as the Grand Junction Facilities in this publication. This clarification does not have any effect on the status of the work site in question, and is only intended to more precisely identify that facility.

By updating the two lists found below, OWCP is presenting the public with the most current listing of DOE facilities in order to assist potential claimants and their families. OWCP is continuing its efforts in this area as it adjudicates claims filed under EEOICPA, and further revisions of these lists should be expected. Although DOE maintains a Web site (https://hsspublic.energy.gov/search/facility/findfacility.aspx) that provides information on AWE facilities, Beryllium Vendor facilities and DOE facilities to the public, the information on that Web site regarding DOE facilities should not be relied upon as it may not be up to date, nor is it binding on OWCP's adjudication of claims filed under EEOICPA. Instead, OWCP is solely authorized to give the public notice of the Director's determinations regarding DOE facilities.

III. Introduction to the Lists

The five complete lists previously published by DOE included all three types of work sites described in Executive Order 13179, i.e., AWE facilities, Beryllium Vendor facilities, and DOE facilities. On the other hand, the lists published on June 23, 2009, November 24, 2010, March 6, 2012, April 8, 2013 and again today by OWCP only include work sites that meet the definition of a Department of Energy facility, because the authority to designate both AWE facilities and Beryllium Vendor facilities has been granted to DOE. However, since some work sites can meet the definition of more than just one type of covered work site during either the same or differing time periods, simply presenting one list of DOE facilities (without also differentiating among them in some easily understood fashion) could lead the reader to wrongly conclude that a listed work site has always been a DOE facility when, in fact, it only had that status during a brief period. To lessen the potential for this type of misunderstanding, OWCP has decided to continue its practice of presenting two separate lists of DOE facilities.

The first list consists exclusively of work sites that have only been DOE facilities for purposes of coverage under EEOICPA, and the second list consists of work sites that have also been at least one other type of covered work site in addition to a DOE facility. To see what other types of covered work sites the DOE facilities appearing in the second list are or have been, readers can refer to the Federal Register notices published by DOE on August 23, 2004 (69 FR 51825), November 30, 2005 (70 FR 71815), June 28, 2007 (72 FR 35448), April 9, 2009 (74 FR 16191), August 3, 2010 (75 FR 45608), May 26, 2011 (76 FR 30695), February 6, 2012 (77 FR 5781) and February 11, 2013 (78 FR 9678). Since covered time periods for a particular DOE facility are statutorily limited to periods during which “operations” are or were performed by or on behalf of DOE (or its predecessor agencies) at that DOE facility, and when DOE (or its predecessor agencies) either had a proprietary interest in the facility or had entered into a particular type of contract with an entity regarding the facility, the lists below include date ranges during which covered employment at each work site could have been performed. These date ranges, however, often do not reflect the exact day and month that a work site either acquired or lost its status as a DOE facility, and are not considered binding on OWCP in its adjudication of individual claims under EEOICPA. Rather, they are presented in this notice for the sole purpose of informing the public of the current results of OWCP's research into the operational histories of these work sites, some of which extend back to the establishment of the Manhattan Engineer District of the U.S. Army Corps of Engineers on August 13, 1942. OWCP's efforts in this area are continuing, and it expects that the date ranges included in this notice will change with the publication of future notices.

DOE facilities appearing on the lists that have undergone environmental remediation at the direction of or directly by DOE are identified by the following symbol—†—after the date range during which such environmental remediation occurred. During those periods, only the work of employees of DOE contractors who actually performed the remediation is “covered work” under EEOICPA.

List 1—Work Sites That Are/Were DOE Facilities Exclusively
Facility name | Location | Dates
Alaska DOE Facilities
Amchitka Island Nuclear Explosion Site | Amchitka Island | 1965-9/1973; 5/25/2001-10/13/2001†
Project Chariot Site | Cape Thompson | 1962; 1993†
California DOE Facilities
Area IV of the Santa Susanna Field Laboratory | Ventura County | 1955-1988; 1988-Present†
Canoga Complex | Los Angeles County | 1955-1960
De Soto Complex | Los Angeles County | 1959-1995; 1998†
Downey Facility | Los Angeles County | 1948-1955
High Energy Rate Forging (HERF) Facility | Oxnard | 1984-6/30/1997
Laboratory for Energy-Related Health Research, University of California (Davis) | Davis | 1958-1989; 1991-Present†
Laboratory of Biomedical and Environmental Sciences, University of California (Los Angeles) | Los Angeles | 1947-Present
Laboratory of Radiobiology and Environmental Health, University of California (San Francisco) | San Francisco | 1951-1999
Lawrence Berkeley National Laboratory | Berkeley | 8/13/1942-Present
Lawrence Livermore National Laboratory | Livermore | 1950-Present
Sandia National Laboratories, Salton Sea Test Base | Imperial County | 1946-1961
Sandia National Laboratories-Livermore | Livermore | 1956-Present
Stanford Linear Accelerator Center, Stanford University | Palo Alto | 1962-Present
Colorado DOE Facilities
Grand Junction Facilities | Grand Junction | 8/1943-10/2001; 11/2001-Present†
Project Rio Blanco Nuclear Explosion Site | Rifle | 1973-1976
Project Rulison Nuclear Explosion Site | Grand Valley | 1969-1971; 1972-1978†
Rocky Flats Plant | Golden | 1951-2006
Florida DOE Facilities
Pinellas Plant | Clearwater | 1957-1997
Hawaii DOE Facilities
Kauai Test Facility, U.S. Navy Pacific Missile Range | Kauai | 1962-Present
Idaho DOE Facilities
Argonne National Laboratory-West | Scoville | 1949-2005
Idaho National Laboratory | Scoville | 1949-Present
Illinois DOE Facilities
Argonne National Laboratory-East | Argonne | 1946-Present
Fermi National Accelerator Laboratory | Batavia | 1972-Present
Indiana DOE Facilities
Dana Heavy Water Plant | Dana | 1943-5/1957
Iowa DOE Facilities
Ames Laboratory, Iowa State University | Ames | 8/13/1942-Present
Iowa Ordnance Plant (Line 1 and Associated Activities) | Burlington | 1947-1974
Kentucky DOE Facilities
Paducah Gaseous Diffusion Plant | Paducah | 1951-7/28/98; 7/29/98-Present†
Massachusetts DOE Facilities
Winchester Engineering and Analytical Center | Winchester | 1952-1961
Michigan DOE Facilities
Adrian Facility | Adrian | 5/25/54-1962; 1995†
Minnesota DOE Facilities
Elk River Reactor | Elk River | 1962-1968
Mississippi DOE Facilities
Salmon Nuclear Explosion Site | Hattiesburg | 1964-6/29/1972
Missouri DOE Facilities
Kansas City Plant | Kansas City | 11/5/1948-Present
Mallinckrodt Chemical Co., Destrehan Street Facility | St. Louis | 8/13/1942-1962; 1995†
St. Louis Airport Storage Site (SLAPS) | St. Louis | 1/3/1947-1973; 1984-1998
Weldon Spring Plant | Weldon Spring | 1955-1966; 10/1/1985-2002†
Weldon Spring Quarry | Weldon Spring | 1958-1966; 1967-10/2002†
Weldon Spring Raffinate Pits | Weldon Spring | 1955-1966; 1967-2002†
Nebraska DOE Facilities
Hallam Sodium Graphite Reactor | Hallam | 1960-1971
Nevada DOE Facilities
Nevada Site Office | North Las Vegas | 3/6/1962-Present
Nevada Test Site | Mercury | 1951-Present
Project Faultless Nuclear Explosion Site | Central Nevada Test Site | 1967-1974
Project Shoal Nuclear Explosion Site | Fallon | 1962-1/31/1964
Tonopah Test Range | Tonopah | 1956-Present
Yucca Mountain Site Characterization Project | Yucca Mountain | 1987-Present
New Jersey DOE Facilities
Middlesex Sampling Plant | Middlesex | 1943-1967; 1980-1982†
New Brunswick Laboratory | New Brunswick | 1948-1977
Princeton Plasma Physics Laboratory, James Forrestal Campus of Princeton University | Princeton | 1951-Present
New Mexico DOE Facilities
Albuquerque Operations Office | Albuquerque | 8/13/1942-Present
Chupadera Mesa | White Sands Missile Range | 1945
Hangar 481, Kirtland AFB | Albuquerque | 3/1/1984-2/29/1996
Kirtland Operations Office, Kirtland AFB | Albuquerque | 1964-Present
Los Alamos Medical Center | Los Alamos | 1952-1963
Los Alamos National Laboratory | Los Alamos | 8/13/1942-Present
Lovelace Respiratory Research Institute, Kirtland AFB | Albuquerque | 1960-6/20/2013
Project Gasbuggy Nuclear Explosion Site | Farmington | 2/11/1967-1973; 1978; 1992-Present†
Project Gnome Nuclear Explosion Site | Carlsbad | 7/1/1960-6/1962
Sandia National Laboratories | Albuquerque | 1945-Present
South Albuquerque Works | Albuquerque | 1951-1967
Trinity Nuclear Explosion Site, Alamogordo Bombing and Gunnery Range | White Sands Missile Range | 1945; 1952†; 1967†
Waste Isolation Pilot Plant | Carlsbad | 3/26/1999-Present
New York DOE Facilities
Brookhaven National Laboratory | Upton | 1947-Present
Electro Metallurgical Co. | Niagara Falls | 8/13/1942-1953
Environmental Measurements Laboratory | New York | 1946-2003
Haist Property | Tonawanda | 6/25/1943-1948
Lake Ontario Ordnance Works | Niagara County | 1944-1997
Linde Ceramics Plant (Buildings 30, 31, 37 and 38 only) | Tonawanda | 11/16/1942-1953; 1988-1992†; 1996†
Peek Street Facility (Knolls Atomic Power Laboratory) | Schenectady | 1947-1954
Sacandaga Facility | Glenville | 1947-1953
SAM Laboratories, Columbia University | New York | 8/13/1942-1947
Separations Process Research Unit (Knolls Atomic Power Laboratory) | Schenectady | 1950-1965; 2007-2011†
University of Rochester Atomic Energy Project | Rochester | 1943-1986
Ohio DOE Facilities
Extrusion Plant (Reactive Metals Inc.) | Ashtabula | 1962-11/1/2006
Feed Materials Production Center (FMPC) | Fernald | 1951-Present
Dayton Project (Units I, III and IV only) | Dayton and Oakwood | 7/14/1943-1950
Mound Plant | Miamisburg | 1947-Present
Piqua Organic Moderated Reactor | Piqua | 1963-2/28/69
Portsmouth Gaseous Diffusion Plant | Piketon | 1952-7/28/98; 7/29/98-Present†
Oregon DOE Facilities
Albany Metallurgical Research Center, U.S. Bureau of Mines | Albany | 1987-1993†; 1995-Present
Pennsylvania DOE Facilities
Shippingport Atomic Power Plant | Shippingport | 1984-1995†
Puerto Rico DOE Facilities
BONUS Reactor Plant | Punta Higuera | 1964-1968
Puerto Rico Nuclear Center | Mayaguez | 1957-1976; 1987†
South Carolina DOE Facilities
Savannah River Site | Aiken | 1950-Present
Tennessee DOE Facilities
Clarksville Modification Center, Ft. Campbell | Clarksville | 1949-1967
Clinton Engineer Works (CEW) | Oak Ridge | 1943-1949
Oak Ridge Gaseous Diffusion Plant (K-25) | Oak Ridge | 1943-1987; 1988-Present†
Oak Ridge Hospital | Oak Ridge | 1943-1959
Oak Ridge Institute for Science Education | Oak Ridge | 1946-Present
Oak Ridge National Laboratory (X-10) | Oak Ridge | 1943-Present
Office of Scientific and Technical Information (OSTI) | Oak Ridge | 1957-Present
S-50 Oak Ridge Thermal Diffusion Plant | Oak Ridge | 1944-1951
Y-12 Plant | Oak Ridge | 8/13/1942-Present
Texas DOE Facilities
Medina Modification Center | San Antonio | 1958-1966
Pantex Plant | Amarillo | 1951-Present
Virginia DOE Facilities
Thomas Jefferson National Accelerator Facility | Newport News | 1994-Present
Washington DOE Facilities
Hanford Engineer Works | Richland | 8/13/1942-Present
Pacific Northwest National Laboratory | Richland | 2005-Present
West Virginia DOE Facilities
Reduction Pilot Plant | Huntington | 1951-1963; 1978-1979
Wisconsin DOE Facilities
LaCrosse Boiling Water Reactor | LaCrosse | 1967-1969
Territorial DOE Facilities
Pacific Proving Ground | Bikini and Enewetak Atolls (now part of the Republic of the Marshall Islands), Johnston Island and Christmas Island | 1946-1962

List 2—Work Sites That Are/Were DOE Facilities (for the Years Identified in The Last Column Only) and Also Another Type of EEOICPA-Covered Facility
Facility name | Location | Dates
Arizona DOE Facilities
Ore Buying Station at Globe | Globe | 7/1955-1957
Uranium Mill in Monument Valley | Monument Valley | 5/1989-2/1990†; 9/1992-5/1994†
Uranium Mill in Tuba City | Tuba City | 1/1985-2/1986†; 1/1988-4/1990†
California DOE Facilities
General Atomics (Torrey Pines Mesa and Sorrento West) | La Jolla | 1996-1999†
General Electric Vallecitos | Pleasanton | 1998-6/7/2010†
Colorado DOE Facilities
Climax Uranium Mill in Grand Junction | Grand Junction | 12/1988-8/1994†
Green Sludge Plant in Uravan | Uravan | 1943-1945
New Uranium Mill in Rifle | Rifle | 9/1988-9/1989†; 4/1992-10/1996†
Old Uranium Mill in Rifle | Rifle | 9/1988-9/1989†; 4/1992-10/1996†
Uranium Mill in Durango | Durango | 1948-1953; 10/1986-5/1991†
Uranium Mill in Gunnison | Gunnison | 9/1991-12/1995†
Uranium Mill in Maybell | Maybell | 5/1995-9/1998†
Uranium Mill in Naturita | Naturita | 5/1994-11/1994†; 6/1996-9/1998†
Uranium Mill No. 1 in Slick Rock (East) | Slick Rock | 1995-1996†
Uranium Mill No. 2 in Slick Rock (West) | Slick Rock | 1995-1996†
Connecticut DOE Facilities
Connecticut Aircraft Nuclear Engine Laboratory (CANEL) | Middletown | 1958-7/8/1966
Seymour Specialty Wire | Seymour | 1992-1993†
Idaho DOE Facilities
Uranium Mill in Lowman | Lowman | 1992†; 1994-Present
Illinois DOE Facilities
General Steel Industries (South Plant) | Granite City | 1993†
Metallurgical Laboratory, University of Chicago (Eckhart Hall, Jones Laboratory and Ryerson Hall only) | Chicago | 1982-1984†; 1987†
National Guard Armory (Washington Park Armory) | Chicago | 1987†
Massachusetts DOE Facilities
Chapman Valve Manufacturing Co | Indian Orchard | 1995†
Hood Building | Cambridge | 1946-1963
Ventron Corporation | Beverly | 1986†; 1996-1997†
Missouri DOE Facilities
Latty Avenue Properties | Hazelwood | 1984-1986†
New Jersey DOE Facilities
Du Pont Deepwater Works | Deepwater | 1996†
Kellex/Pierpont | Jersey City | 1979-1980†
Middlesex Municipal Landfill | Middlesex | 1984†; 1986†
Rare Earths/W.R. Grace | Wayne | 1985-1987†
New Mexico DOE Facilities
Ore Buying Station at Grants | Grants | 7/1956-1958
Ore Buying Station at Shiprock | Shiprock | 7/1952-1/1954
Uranium Mill in Ambrosia Lake | Ambrosia Lake | 7/1987-4/1989†; 10/1992-7/1995†
Uranium Mill in Shiprock | Shiprock | 10/1984-11/1986†
New York DOE Facilities
Baker and Williams Warehouses (Pier 38) | New York | 1991-1993†
Colonie Interim Storage Site (National Lead Co.) | Colonie | 1984-1998†
West Valley Demonstration Project | West Valley | 1980-Present
Ohio DOE Facilities
Alba Craft | Oxford | 1994-1995†
Associated Aircraft Tool and Manufacturing Co | Fairfield | 1994-1995†
B & T Metals | Columbus | 1996†
Baker Brothers | Toledo | 1995†
Battelle Laboratories-King Avenue | Columbus | 1986-2000†
Battelle Laboratories-West Jefferson | Columbus | 1986-Present†
Beryllium Production Plant (Brush Luckey Plant) | Luckey | 1949-1961; 1992-Present†
General Electric Co. (Ohio) | Cincinnati/Evendale | 1961-6/30/1970
Herring-Hall Marvin Safe Co. | Hamilton | 1994-1995†
Oregon DOE Facilities
Uranium Mill and Disposal Cell in Lakeview | Lakeview | 1986-1989†
Pennsylvania DOE Facilities
Aliquippa Forge | Aliquippa | 1988†; 1993-1994†
C.H. Schnorr & Company | Springdale | 1994†
Vitro Manufacturing (Canonsburg) | Canonsburg | 1983-1985†; 1996†
South Dakota DOE Facilities
Ore Buying Station at Edgemont | Edgemont | 11/1952-7/12/1956
Texas DOE Facilities
Uranium Mill in Falls City | Falls City | 1/1992-6/1994†
Utah DOE Facilities
Ore Buying Station at Marysvale | Marysvale | 3/1950-1957
Ore Buying Station at Moab | Moab | 5/1954-1960
Ore Buying Station at White Canyon | White Canyon | 10/1954-1957
Uranium Mill in Mexican Hat | Mexican Hat | 7/1987-10/1987†; 9/1992-2/1995†
Uranium Mill in Moab (Atlas Site) | Moab | 2001-Present
Uranium Mill in Monticello | Monticello | 1948-6/2000
Wyoming DOE Facilities
Ore Buying Station at Crooks Gap | Crooks Gap | 12/1956-7/1957
Ore Buying Station at Riverton | Riverton | 3/1955-1957
Uranium Mill in Converse County (Spook Site) | Converse County | 4/1989-9/1989†
Uranium Mill in Riverton | Riverton | 5/1988-9/1990†
† Denotes a period of environmental remediation.

Signed at Washington, DC, this 31st day of December, 2014.
Gary A. Steinberg,
Acting Director, Office of Workers' Compensation Programs.

[FR Doc. 2015-00784 Filed 1-16-15; 8:45 am]

BILLING CODE 4510-CR-P